DEPARTMENT OF THE INTERIOR

Bureau of Land Management

[UT-080-2005-9141-EJ]

Notice of Availability of a Final Environmental Impact Statement for the Chapita Wells—Stagecoach Area (CWSA), Uintah County, UT

AGENCY: Bureau of Land Management, Interior.

ACTION: Notice of availability.

SUMMARY: In accordance with the National Environmental Policy Act of 1969 (NEPA) (42 U.S.C. 4321 et seq.) and the Federal Land Policy and Management Act of 1976 (FLPMA) (43 U.S.C. 1701 et seq.), the Bureau of Land Management (BLM) has prepared a Final Environmental Impact Statement (FEIS) for the Chapita Wells—Stagecoach Area, Uintah County, Utah.

DATES: The 30-day public availability period will begin on the date the Environmental Protection Agency (EPA) publishes its Notice of Availability (NOA) in the Federal Register. To assure that public comments will be considered, the BLM must receive written comments on the FEIS on or before the end of the comment period at the address listed below.

FOR FURTHER INFORMATION CONTACT: Stephanie Howard, Project Manager, BLM Vernal Field Office, 170 South 500 East, Vernal, UT 84078. Ms. Howard may also be reached at 435-781-4400.

ADDRESSES: Comments on the FEIS may be submitted by any of the following methods:

• Mail: Bureau of Land Management, Vernal Field Office, 170 South 500 East, Vernal, Utah 84078.

• E-mail: UT_Vernal_Comments@blm.gov.

• Fax: (435) 781-4410.

Please reference the CWSA when submitting your comments. Comments and information submitted on the FEIS for the CWSA, Uintah County, Utah, including names, e-mail addresses, and street addresses of respondents, will be available for public review at the Vernal Field Office address listed above. The BLM will not accept anonymous comments. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

SUPPLEMENTARY INFORMATION: The CWSA involves approximately 31,872 acres located in Townships 8 to 10 South, Ranges 22 and 23 East, Salt Lake Base Meridian, about 30 miles south of Vernal, in Uintah County, Utah. Approximately 22,693 acres (71%) of surface and mineral estate are administered by the BLM; approximately 6,577 acres (21%) are owned by the Ute Tribe and/or its allottees and administered by the BIA; approximately 1,914 acres (6%) are administered by the State of Utah's School and Institutional Trust Lands Administration (SITLA); and the remaining 688 acres (2%) are privately owned.

The CWSA encompasses an already developed oil and gas field. As of March 2004, the CWSA contained approximately 325 existing gas wells. Also, about 121 miles of roads and 115 miles of pipeline have been constructed within the region.

A Notice of Intent (NOI) to prepare the EIS was published in the Federal Register on October 1, 2004, which announced the beginning of the scoping period. Nine scoping letters were received from agencies and organizations during the scoping period. The scoping comments were taken into account during the drafting of the EIS. A summary of the scoping comments can be found in section 1.6 of the FEIS.

A NOA for the Draft EIS was published in the Federal Register on January 20, 2006. During the public comment period, eight comment letters were received from various agencies and organizations. Comments received on the Draft EIS, and the responses to those comments, are found in Chapter 6 of the FEIS.

The FEIS analyzes the effects of a natural gas and oil development scenario within the CWSA that is conceptual in nature. The final location of well pads, roads, and pipelines will be determined through future site-specific assessments required for each facility. Any additional environmental analyses will be tiered to this FEIS.

The FEIS analyzes the impacts of the Proposed Action and the No Action Alternative. The following is a summary of the alternatives:

Alternative A—Proposed Action (BLM's preferred alternative): The proposed action includes up to 627 natural gas wells, about 99.5 miles of new roads and 104.5 miles of pipelines, and 5,000 hp of compression. EOG Resources Inc. proposes to drill 627 wells at the rate of 90 wells per year over a period of seven years, or until the resource base is fully developed. Of this total number, 473 wells would be drilled at new locations and 154 wells would be twin wells. In all, approximately 1,735 acres, or 5% of the total project area, would be disturbed by the proposal.

The Proposed Action incorporates standard operating procedures and applicant-committed best management practices currently employed on BLM-administered public lands in the Uintah Basin that mitigate impacts to the environment.

Alternative B—No Action: Oil and gas development on Federal lands proposed under Alternative A would not be implemented. However development would continue to occur under Applications for Permits to Drill (APDs) previously approved by the BLM based upon other NEPA documents. Development would also continue on non-Federal lands. An additional 148 wells would be drilled on 20-acre and 40-acre spacing patterns (91 new wells and 57 twin wells).

Seven additional alternatives were considered but eliminated from detailed analysis because of technical or economical reasons, because of their resource impact, or because they did not meet the purpose and need of BLM's proposed action.

Copies of the FEIS for the CWSA have been sent to Federal, State, and local government agencies, and to parties who commented during the public comment period.

William Stringer,
Field Office Manager.

[FR Doc. E7-25585 Filed 1-3-08; 8:45 am]

BILLING CODE 4310-DQ-P